DEPARTMENT OF COMMERCE

International Trade Administration

[A-570-803]

Heavy Forged Hand Tools from the People's Republic of China; Amended Final Results of Antidumping Duty Administrative Reviews in Accordance With Court Decision

AGENCY: Import Administration, International Trade Administration, U.S. Department of Commerce.

ACTION: Notice of Amended Final Results of Antidumping Duty Administrative Review in accordance with Court Decision.

SUMMARY: On February 8, 2000, the Court of International Trade (CIT) affirmed the remand determination of the Department of Commerce (the Department) arising from the administrative reviews of the antidumping duty orders on heavy forged hand tools (HFHTs) from the People's Republic of China (PRC). See Fujian Machinery & Equipment Import & Export Corp., et. al v. United States, _CIT_, Slip Op. 00-14, (February 8, 2000). No party appealed this decision. As there is now a final and conclusive court decision in this segment, we are amending the final results of reviews in this matter and will instruct the U.S. Customs Service to liquidate entries subject to these amended final results.

EFFECTIVE DATE: May 8, 2000.

FOR FURTHER INFORMATION CONTACT: Michael Strollo or Maureen Flannery, Antidumping/Countervailing Duty Enforcement, Import Administration, International Trade Administration, U.S. Department of Commerce, 14th Street and Constitution Avenue, N.W., Washington D.C. 20230; telephone (202) 482-5255 and (202) 482-3020, respectively.

SUPPLEMENTARY INFORMATION:

Background

On February 1, 1991, the Department issued antidumping duty orders on HFHTs from the PRC. See Antidumping Duty Orders: Heavy Forged Hand Tools, Finished or Unfinished, With or Without Handles from the People's Republic of China, 56 FR 6622 (February 19, 1991) (Antidumping Duty Orders). On April 4, 1996, the Department published its final results of the third administrative review of HFHTs for two PRC exporters, Fujian Machinery and Equipment Import and Export Corporation (FMEC) and Shandong Machinery Import and Export Corporation (SMC). See Heavy Forged Hand Tools, Finished or Unfinished, With or Without Handles, from the People's Republic of China; Final Results of Antidumping Administrative Review, 61 FR 15028 (April 4, 1996). On May 14, 1996, the Department published its amended final results of the third administrative review of HFHTs. See Heavy Forged Hand Tools, Finished or Unfinished, With or Without Handles, From the People's Republic of China; Amendment of Final Results of Antidumping Duty Administrative Review, 61 FR 24285 (May 14, 1996).

On September 7, 1999, the Department filed with the CIT a consent motion for voluntary remand so that the Department may exclude statistics used as surrogate values that were found to be aberrational by the Department in the Final Results of Redetermination Pursuant to Court Remand relating to the second administrative review. The CIT granted the motion and remanded to the Department on September 15, 1999.

On November 15, 1999, the Department filed its final results pursuant to remand. See Final Results of Redetermination Pursuant to Court Remand, Fujian Machinery and Equipment Import & Export Corp., et. al v. United States (November 15, 1999). On February 8, 2000, the CIT upheld the Department's redetermination on remand. Fujian Machinery & Equipment Import & Export Corp., Shandong Machinery Import & Export Corp., et al. v. United States, _CIT_, Slip. Op 00-14 (February 8, 2000). Neither party appealed the CIT's decision.

There is now a final and conclusive court decision in this action; therefore, we are amending our final results of review for the period February 1, 1993 through January 31, 1994. We recalculated margins on each product category for FMEC and SMC. The revised weighted average margins are as follows:

Manufacturer/Exporter | Margin (percent)
Fujian Machinery & Equipment Import & Export Corp.:
Axes/Adzes | 5.68
Bars/Wedges | 16.14
Hammers/Sledges | 8.90
Shandong Machinery Import & Export Corp.:
Bars/Wedges | 29.84
Hammers/Sledges | 10.02
Picks/Mattocks | 52.60

Accordingly, the Department will determine, and the Customs Service will assess, antidumping duties on all entries of subject merchandise from FMEC and SMC in accordance with these amended final results. For assessment purposes, we have calculated importer-specific duty assessment rates for each class or kind of merchandise based on the ratio of the total amount of antidumping duties calculated for the examined sales during the period of review (POR) to the total quantity of sales examined during the POR. The Department will issue appraisement instructions directly to Customs. The above rates will not affect FMEC or SMC's cash deposit rates currently in effect, which continue to be based on the margins found to exist in the most recently completed review.

This notice is published in accordance with section 751(a)(1) of the Tariff Act (19 U.S.C. 1675(a)(1)) and 19 CFR 351.221.

Dated: April 27, 2000.
Troy H. Cribb,
Acting Assistant Secretary for Import Administration.

[FR Doc. 00-11463 Filed 5-5-00; 8:45 am]

BILLING CODE 3510-DS-P